DEPARTMENT OF COMMERCE

International Trade Administration

[A-557-805]

Continuation of Antidumping Duty Order: Extruded Rubber Thread From Malaysia

AGENCY: Import Administration, International Trade Administration, Department of Commerce.

ACTION: Notice of continuation of antidumping duty order: Extruded rubber thread from Malaysia.

SUMMARY: On March 7, 2000, the Department of Commerce (“the Department”), pursuant to sections 751(c) and 752 of the Tariff Act of 1930, as amended (“the Act”), determined that revocation of the antidumping duty order on extruded rubber thread from Malaysia, is likely to lead to continuation or recurrence of dumping. See 65 FR 11981 (March 7, 2000).

On August 2, 2000, the International Trade Commission (“the Commission”), pursuant to section 751(c) of the Act, determined that revocation of the antidumping duty order on extruded rubber thread from Malaysia would be likely to lead to continuation or recurrence of material injury to an industry in the United States within a reasonably foreseeable time. See 65 FR 47517 (August 2, 2000). Therefore, pursuant to 19 CFR 351.218(f)(4), the Department is publishing notice of the continuation of the antidumping duty order on extruded rubber thread from Malaysia.

Effective Date: August 15, 2000.

For Further Information Contact: Martha V. Douthit or James P. Maeder, Office of Policy for Import Administration, International Trade Administration, U.S. Department of Commerce, 14th Street and Constitution Ave., NW., Washington, DC 20230; telephone: (202) 482-5050 or (202) 482-3330, respectively.

SUPPLEMENTARY INFORMATION:

Background

On August 2, 1999, the Department initiated, and the Commission instituted a sunset review (64 FR 41915 and 64 FR 41954) of the antidumping duty order on extruded rubber thread from Malaysia, pursuant to section 751(c) of the Act. As a result of its review, the Department found on March 7, 2000, that revocation of the antidumping duty order on extruded rubber thread from Malaysia would likely lead to continuation or recurrence of dumping and notified the Commission of the magnitude of the margins likely to prevail were the order revoked. See 65 FR 11981 (March 7, 2000).

On August 2, 2000, the Commission determined, pursuant to section 751(c) of the Act, that revocation of the antidumping duty order on extruded rubber thread from Malaysia would be likely to lead to continuation or recurrence of material injury to an industry in the United States within a reasonably foreseeable time. See Extruded Rubber Thread From Malaysia,65 FR 47517 (August 2, 2000) and USITC Publication 3327, Investigation No. 731-TA-527 (Review) (July 2000).

Scope

The product covered by this order is extruded rubber thread. Extruded rubber thread is defined as vulcanized rubber thread obtained by extrusion of stable or concentrated natural rubber latex of any cross sectional shape, measuring from 0.18 mm, which is 0.007 inch or 140 gauge, to 1.42 mm, which is 0.056 inch or 18 gauge, in diameter. Extruded rubber thread is currently classifiable under subheading 4007.00.00 of the Harmonized Tariff Schedule of the United States (“HTSUS”). The HTSUS subheadings are provided for convenience and customs purposes. The written description of the scope of this order is dispositive.

Determination

As a result of the determination by the Department and the Commission that revocation of the antidumping duty order would be likely to lead to continuation or recurrence of dumping and material injury to an industry in the United States, pursuant to section 751(d)(2) of the Act, the Department hereby orders the continuation of the antidumping duty order on extruded rubber thread from Malaysia. The Department will instruct the U.S. Customs Service to continue to collect antidumping duty deposits at the rates in effect at the time of entry for all imports of subject merchandise. The effective date of continuation of this order will be the date of publication in the Federal Register of this Notice of Continuation. Pursuant to section 751(c)(2) and 751 (c)(6) of the Act, the Department intends to initiate the next five-year review of this order not later than July 2005.

Dated: August 9, 2000.
Troy H. Cribb,
Acting Assistant Secretary for Import Administration.

[FR Doc. 00-20690 Filed 8-14-00; 8:45 am]

BILLING CODE 3510-DS-P